DEPARTMENT OF LABOR

Employment and Training Administration

[NAFTA-5918]

Britax Heath Techna, Inc. Aircraft Interior Systems, Bellingham, WA; Notice of Negative Determination Regarding Application for Reconsideration

By application dated May 23, 2002, the petitioners requested administrative reconsideration of the Department's negative determination regarding eligibility to apply for North American Free Trade Agreement-Transitional Adjustment Assistance (NAFTA-TAA), applicable to workers and former workers of the subject firm. The denial notice was signed on April 22, 2002, and was published in the Federal Register on May 2, 2002 (67 FR 22113).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The denial of NAFTA-TAA for workers engaged in activities related to retrofitting various commercial aircraft interior components and services at Britax Heath Techna, Inc., Aircraft Interior Systems, Bellingham, Washington, was denied based on the workers not producing an article as required for certification under section 250(a), Subchapter D, Chapter 2, Title II, of the Trade Act of 1974, as amended.

The petitioner alleges that the company was engaged in the production of a product. The petitioner indicated that the subject firm in combination of retrofitting aerospace interior components, also produced (OEM) Original Engineered Manufacturing Aerospace components. The petitioner further alleges that firm sales declined due to a decline in orders from foreign customers and a major U.S. aircraft manufacturer.

The Department of Labor upon further review of the initial decision and further contact with the company concurs with the petitioner that a portion of the work performed by the workers at the subject plant consisted of activities related to the production of a product (OEM Aerospace components).

A review of company data supplied during initial investigation and further contact with the company shows that there were no company imports of OEM Aerospace components from Mexico or Canada, nor did the subject firm shift production from Bellingham, Washington to Mexico or Canada.

Further review of data supplied during the initial investigation, in conjunction with data recently supplied by the company, show that the subject firm's customers are located worldwide, with the overwhelming majority of sales directed towards foreign customers. Based on information provided by the company, a significant portion of the declines in sales and production at the subject firm are attributed to a worldwide slow down in the airline industry during the relevant period, which thus impacted the retrofitting aerospace interior components business. The events of September 11, 2001 further impacted the demand for the subject firm's products.

Therefore, imports from Canada or Mexico of products “like or directly competitive” with what the subject plant produced did not “contribute importantly” to the layoffs at the subject plant.

Conclusion

After review of the application and investigative findings, I conclude that there has been no error or misinterpretation of the law or of the facts which would justify reconsideration of the Department of Labor's prior decision. Accordingly, the application is denied.

Signed at Washington, DC, this 5th day of July 2002.
Edward A. Tomchick,
Director, Division of Trade Adjustment Assistance.

[FR Doc. 02-18080 Filed 7-17-02; 8:45 am]

BILLING CODE 4510-30-P